DEPARTMENT OF ENERGY

Federal Energy Regulatory Commission

Combined Notice of Filings

Take notice that the Commission has received the following Natural Gas Pipeline Rate and Refund Report filings:

Filings Instituting Proceedings

Docket Numbers: RP22-681-000.

Applicants: Adelphia Gateway, LLC.

Description: Penalty Revenue Crediting Report of Adelphia Gateway, LLC.

Filed Date: 3/7/22.

Accession Number: 20220307-5287.

Comment Date: 5 p.m. ET 3/21/22.

Docket Numbers: RP22-688-000.

Applicants: El Paso Natural Gas Company, L.L.C.

Description: § 4(d) Rate Filing: Negotiated Rate Agreement Update (Pioneer Apr-Jun 2022) to be effective 4/1/2022.

Filed Date: 3/9/22.

Accession Number: 20220309-5053.

Comment Date: 5 p.m. ET 3/21/22.

Docket Numbers: RP22-689-000.

Applicants: Big Sandy Pipeline, LLC, Bobcat Gas Storage, East Tennessee Natural Gas, LLC, Egan Hub Storage, LLC, Garden Banks Gas Pipeline, LLC, Maritimes & Northeast Pipeline, L.L.C., Mississippi Canyon Gas Pipeline, L.L.C., Moss Bluff Hub, LLC, Nautilus Pipeline Company, L.L.C., NEXUS Gas Transmission, LLC, Sabal Trail Transmission, LLC, Saltville Gas Storage Company L.L.C., Southeast Supply Header, LLC, Steckman Ridge, LP, Texas Eastern Transmission, LP, Algonquin Gas Transmission, LLC.

Description: Compliance filing: Big Sandy Pipeline, LLC submits tariff filing per 154.203: Enbridge (U.S.) Pipelines—LINK System Maintenance—Request for Waivers to be effective N/A.

Filed Date: 3/10/22.

Accession Number: 20220310-5009.

Comment Date: 5 p.m. ET 3/22/22.

Docket Numbers: RP22-690-000.

Applicants: Equitrans, L.P.

Description: § 4(d) Rate Filing: Price Indice References to be effective 5/1/2022.

Filed Date: 3/10/22.

Accession Number: 20220310-5012.

Comment Date: 5 p.m. ET 3/22/22.

Docket Numbers: RP22-691-000.

Applicants: Iroquois Gas Transmission System, L.P.

Description: § 4(d) Rate Filing: 3.10.22 Negotiated Rates—Macquarie Energy LLC R-4090-25 to be effective 4/1/2022.

Filed Date: 3/10/22.

Accession Number: 20220310-5016.

Comment Date: 5 p.m. ET 3/22/22.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP13-459-000.

Applicants: Trailblazer Pipeline Company LLC.

Description: Refund Report: TPC 2022-03-09 2021 Penalty Revenues Refund Report to be effective N/A.

Filed Date: 3/9/22.

Accession Number: 20220309-5144.

Comment Date: 5 p.m. ET 3/21/22.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 10, 2022.
Debbie-Anne A. Reese,
Deputy Secretary.

[FR Doc. 2022-05582 Filed 3-15-22; 8:45 am]

BILLING CODE 6717-01-P